DEPARTMENT OF TRANSPORTATION

Federal Aviation Administration

[Docket No. FAA-2003-14246]

Airport Privatization Pilot Program

AGENCY: Federal Aviation Administration (FAA), DOT.

ACTION: Notice of receipt of application of New Orleans Lakefront Airport, New Orleans, Louisiana; commencement of 60 day public review and comment period.

SUMMARY: The Federal Aviation Administration (FAA) is seeking information and comments from interested parties on the final application by the Orleans Levee District for participation of New Orleans Lakefront Airport (NEW) in the airport privatization pilot program. The final application is accepted for review.

Title 49 U.S.C. 47134 establishes an airport privatization pilot program and authorizes the Department of Transportation to grant exemptions from certain Federal statutory and regulatory requirements for up to five airport privatization projects. The application procedures require the FAA to publish a notice of receipt of the final application in Federal Registerand accept public comment on the final application for a period of 60 days.

DATES: Comments must be received by March 12, 2003. Comments that are received after that date will be considered only to the extent possible.

ADDRESSES: The final application is available for public review in the Dockets Office, U.S. Department of Transportation, Room Plaza 401, 400 Seventh Street, SW., Washington, DC 20590-0001. The documents have been filed under FAA Docket Number FAA-2003-14246. The Dockets Office is open between 9:00 a.m. and 5:00 p.m., Monday through Friday, except Federal holidays. The Dockets Office is on the plaza level of the Nassif Building at the Department of Transportation at the above address. Also, you may review public dockets on the Internet at http://dms.dot.gov.

The Orleans Levee District has also made a copy of the application available at the following locations:

Circulation Desk at the Earl K. Long Library, University of New Orleans, 2000 Lakeshore Drive, New Orleans, Louisiana 70148. The documents are available for review: Monday through Thursday, 7:45 a.m. and 11 p.m. Friday, 7:45 a.m. and 8 p.m. Saturday, 10:00 a.m. and 6 pm. Sundays, 12 noon and 8 p.m. The Library is closed on all legal holidays. Library personnel will require presentation of picture identification.

Administration Building, New Orleans Lakefront Airport, 6001 Stars and Stripes Boulevard, New Orleans, Louisiana 70126.

The Administration Building is open weekdays from 9 a.m. and 4 p.m. with the exception of legal holidays. The contact person is Max L. Hearn who may be reached at (504) 243-4000.

Comments on the final application must be delivered or mailed, in duplicate, to: the Docket Management System, U.S. Department of Transportation, Room Plaza 401, 400 Seventh Street, SW., Washington, DC 20590-0001. You must identify the docket number “FAA Docket FAA-2003-14246” at the beginning of your comments. Commentors wishing the FAA to acknowledge receipt of their comments must include a preaddressed, stamped postcard on which the following statement is made: “Comments to FAA Docket No. FAA-2003-14246.” The postcard will be date stamped and mailed to the commenter. You may also submit comments through the Internet to http://dms.dot.gov.

FOR FURTHER INFORMATION CONTACT: Kevin C. Willis, Compliance Specialist, Airport Compliance Division, AAS-400, Office of Airport Safety and Standards, Federal Aviation Administration, 800 Independence Ave SW., Washington, DC 20591. Telephone: 202-267-8741.

SUPPLEMENTARY INFORMATION: Title 49 of the U.S. Code 47134(b) authorizes the Secretary of Transportation, and through delegation, the FAA Administrator, to exempt a sponsor of a public use airport that has received Federal assistance from certain Federal requirements in connection with the privatization of the airport by sale or lease to a private party. Specifically, the Administrator may exempt the sponsor from all or part of the requirements to use airport revenues for airport-related purposes (upon approval of 65 percent of the air carriers serving the airport and have 65 percent of the landed weight), to pay back a portion of Federal grants upon the sale of an airport, and to return airport property deeded by the Federal Government upon transfer of the airport. The Administrator is also authorized to exempt the private purchaser or lessee from the requirement to use all airport revenues for airport-related purposes, to the extent necessary to permit the purchaser or lessee to earn compensation from the operations of the airport. (No air carrier approval is necessary for the latter exemption.)

On September 16, 1997, the FAA issued a notice of procedures to be used in applications for exemption under Airport Privatization Pilot Program (62 FR 48693). The notice of procedures and its public comments are available for review in FAA Rules Docket No. 28895.

On March 2, 2000, the Orleans Levee District submitted a preliminary application for participation of the New Orleans Lakefront Airport in the Airport Privatization Pilot Program. On May 17, 2000, the FAA informed the Orleans Levee District that additional information was needed in order for the FAA to accept the application for further review. The Orleans Levee District submitted all information, previously requested by the FAA. The filing date of the Orleans Levee District preliminary application was January 19, 2001, the date the FAA received a completed preliminary application.

On March 8, 2001, the FAA informed the Orleans Levee District that it had accepted New Orleans Lakefront Airport's preliminary application for further review. This action permitted the Orleans Levee District to select a private operator, negotiate an agreement and submit a final application to the FAA for exemption. On April 23, 2002, the Orleans Levee District filed a final application.

In its final application, the Orleans Levee District requested an exemption under 49 U.S.C. 47134(b)(1) from 49 U.S.C. 47107(b) and 47133, to permit the Orleans Levee District to use revenue from the lease of airport property for non-airport purposes; under 49 U.S.C. 47134(b)(2) to forgo the repayment of Federal grants; 49 U.S.C. 47134(b)(1); and under 49 U.S.C. 47134(b)(3) and to allow American Airports Lakefront, LLC to earn compensation from the operation of the airport.

In accordance with the final application, American Airports Lakefront, LLC will operate the airport under a 50-year lease and pay the Orleans Levee District $300,000 in annual rental payments for the first three years. In the fourth year, American Airports Lakefront, LLC will pay $300,000 in annual rental payments or 11 percent of the airport's gross income not to exceed $3,000,000 plus 30 percent of the airport's gross income over $3,000,000.

On July 2, 2002, in an effort to clarify certain parts of the application, FAA staff requested responses to 26 questions. Three of the questions posed to the American Airports Lakefront, LLC required it to utilize confidential business or financial information in its response. In accordance with the airport privatization pilot program application procedures, 62 FR 48693, 48706 (September 16, 1997), the private operator has requested confidential treatment of this information. As a result, the responses to those three questions have been withheld and will not be available for public comment. Copies of the 26 questions and the 23 responses available for public view and comment are included in the sponsor's application for public review.

On November 7, 2002, the FAA requested responses to four additional questions. The questions and the responses are included in the docket for public review.

The FAA has determined that the application is substantially complete. As part of its review of the final application, the FAA will consider all comments and information submitted by interested parties during the 60-day comment period for this notice.

Issued in Washington, DC, on January 13, 2003.
David L. Bennett,
Director, Airport Safety and Standards.

[FR Doc. 03-1013 Filed 1-15-03; 8:45 am]

BILLING CODE 4910-13-M